DEPARTMENT OF COMMERCE

National Oceanic and Atmospheric Administration

RIN 0648-XB166

Mid-Atlantic Fishery Management Council; Public Hearings

AGENCY: National Marine Fisheries Service (NMFS), National Oceanic and Atmospheric Administration (NOAA), Commerce.

ACTION: Notice of public hearings.

SUMMARY: The Mid-Atlantic Fishery Management Council (Council) will hold public hearings in April and May of 2012 to allow for public input on Amendment 14 to the Atlantic Mackerel, Squid, and Butterfish (MSB) Fishery Management Plan (FMP).

DATES: Written public comments must be received before 5 p.m. EST, Monday, June 4, 2012. The hearings will be held between April 30 and May 22, 2012. For specific dates and times, see SUPPLEMENTARY INFORMATION below.

ADDRESSES: The hearings will be held (chronologically) in Alexandria, VA; Riverhead, NY; Newport News, VA; Cape May, NJ; Gloucester, MA; and Providence, RI. The Newport News hearing will also be available via webinar. For specific locations and webinar access, see SUPPLEMENTARY INFORMATION below. Written comments should be mailed to the Council office at the address below and marked “AMENDMENT 14.” The public hearing document can be obtained by contacting the Council at the address below or at http://www.mafmc.org/fmp/msb.htm.

Council address: Mid-Atlantic Fishery Management Council, 800 N. State Street, Suite 201, Dover, DE 19901; telephone: (302) 674-2331.

FOR FURTHER INFORMATION CONTACT: Christopher M. Moore Ph.D., Executive Director, Mid-Atlantic Fishery Management Council, 800 N. State Street, Suite 201, Dover, DE 19901; telephone: (302) 526-5255.

SUPPLEMENTARY INFORMATION: Amendment 14 deals with incidental catch and general management of blueback herring, alewife, American shad, and hickory shad (river herrings and shads or “RH/S”) in the MSB FMP. The Amendment has three purposes: (A) Implement Effective RH/S Catch Monitoring; (B) Reduce RH/S Bycatch and/or Catch; and (C) Consider if RH/S should be added as species directly managed by the Council. There are 9 alternative sets that consider the following management measures:

Alternative Set 1: Additional Vessel Reporting Measures;

Alternative Set 2: Additional Dealer Reporting Measures;

Alternative Set 3: Additional At-Sea Observation Optimization Measures;

Alternative Set 4: Port-side and Other Sampling/Monitoring Measures;

Alternative Set 5: At-Sea Observer Coverage Requirements;

Alternative Set 6: Mortality Caps on RH/S catch in the MSB fisheries.

Alternative Set 7: Large area restrictions on the MSB fisheries in areas of high RH/S catch;

Alternative Set 8: Smaller hotspot restrictions on the MSB fisheries in areas of high RH/S catch;

Alternative Set 9: Adding RH/S as “Stocks in the Fishery” in the MSB FMP.

Summaries of the proposed actions will be available and presented at the hearings. The full Draft Environmental Impact Statement (DEIS) that analyzes the proposed actions is available by contacting the Council office or at http://www.mafmc.org/fmp/msb.htm after April 16th. The scheduled public hearings follow. If no one is present halfway through a hearing or later, the hearing may be closed. Some GPS navigation units may provide faulty directions for these locations so call ahead with the number provided if unfamiliar with a hearing location. All hearings will be digitally recorded and saved as transcripts of the hearing.

April 30, 2012: 5:30-7:30 p.m.; Crowne Plaza Hotel Old Town; 901 North Fairfax Street; Alexandria, VA, telephone: (703) 683-6000.

May 15, 2012: 7-9 p.m.; Hyatt Place Long Island/East End; 451 East Main Street; Riverhead, NY, telephone: (631) 208-0002.

May 16, 2012: 6-8 p.m.; Available via Internet webinar (https://www1.gotomeeting.com/register/887273248). There will also be a listening station at: The Virginia Marine Resources Commission; 2600 Washington Avenue; Newport News, VA, telephone: (757) 247-2200.

May 17, 2012: 7-9 p.m.; Congress Hall Hotel; 29 Perry St; Cape May, NJ, telephone: (609) 884-8421.

May 21, 2012: 6-8 p.m.; Annisquam River Marine Fisheries Station; 30 Emerson Ave; Gloucester, MA, telephone: (978) 282-0308.

May 22, 2012: 5:30-7:30 p.m.; Radisson Hotel Providence Airport; 2081 Post Road; Warwick, RI, telephone: (401) 739-3000.

Special Accommodations

The meeting is physically accessible to people with disabilities. Requests for sign language interpretation or other auxiliary aids should be directed to M. Jan Saunders at the Mid-Atlantic Council Office (302) 526-5251 at least five days prior to the meeting date.

Dated: April 10, 2012.
Tracey L. Thompson,
Acting Director, Office of Sustainable Fisheries, National Marine Fisheries Service.

[FR Doc. 2012-8885 Filed 4-12-12; 8:45 am]

BILLING CODE 3510-22-P